DEPARTMENT OF THE INTERIOR

National Park Service

[2253-665]

Notice of Intent To Repatriate Cultural Items: U.S. Department of the Interior, National Park Service, Little Bighorn Battlefield National Monument, Crow Agency, MT

AGENCY: National Park Service, Interior.

ACTION: Notice.

SUMMARY: Little Bighorn Battlefield National Monument, in consultation with the appropriate Indian tribes, has determined that the cultural items meet the definition of sacred objects and repatriation to the lineal descendant stated below may occur if no additional claimants come forward. Any other individuals who believe they are lineal descendants of the individual who owned these sacred objects and who wish to claim the items should contact Little Bighorn Battlefield National Monument.

DATES: Any other individuals who believe they are lineal descendants of the individual who owned these sacred objects who wish to claim the items should contact Little Bighorn Battlefield National Monument at the address below by January 23, 2012.

ADDRESSES: Kate Hammond, Superintendent, Little Bighorn Battlefield National Monument, P.O. Box 39, Crow Agency, MT 59022-0039, telephone (406) 638-3201.

SUPPLEMENTARY INFORMATION: Notice is here given in accordance with the Native American Graves Protection and Repatriation Act (NAGPRA), 25 U.S.C. 3005, of the intent to repatriate cultural items in the possession of the U.S. Department of the Interior, National Park Service, Little Bighorn Battlefield National Monument, Crow Agency, MT that meet the definition of sacred objects under 25 U.S.C. 3001.

This notice is published as part of the National Park Service's administrative responsibilities under NAGPRA, 25 U.S.C. 3003(d)(3). The determinations in this notice are the sole responsibility of the Superintendent, Little Bighorn Battlefield National Monument.

History and Description of the Cultural Items

The two cultural items are an eagle bone whistle and a tanned deer hide skirt. A white eagle plume feather and sage are attached to the whistle with sinew strips and ribbon. The skirt is fastened together with leather thongs and traces of black and red earth paint are visible on the leather. In 1967, the whistle and the skirt were purchased from James Little Bird by the Custer Battlefield Historic Museum Association and later donated to Little Bighorn Battlefield National Monument.

Lloyd Littlebird, Sr., son of James Little Bird, is requesting repatriation of the two cultural items described above. The two items are needed by Mr. Littlebird to continue traditional ceremonies. The Northern Cheyenne Cultural Commission and Tribal Historic Preservation Office corroborated Little Bighorn Battlefield National Monument's determination that Lloyd Littlebird, Sr. is the most appropriate recipient under the Northern Cheyenne traditional kinship system and common law system of descendance.

Determinations Made by Little Bighorn Battlefield National Monument

Officials of Little Bighorn Battlefield National Monument have determined that:

• Pursuant to 25 U.S.C. 3001(3)(C), the two cultural items described above are specific ceremonial objects needed by traditional Native American religious leaders for the practice of traditional Native American religions by their present-day adherents.

• Pursuant to 25 U.S.C. 3005(a)(5)(A), Mr. Littlebird is the direct lineal descendant of the individual who owned these sacred objects.

Additional Requestors and Disposition

Any other individuals who believe they are lineal descendants of the individual who owned these sacred objects and who wish to claim the items should contact Kate Hammond, Superintendent, Little Bighorn Battlefield National Monument, P.O. Box 39, Crow Agency, MT 59022-0039, telephone (406) 638-3201, before January 23, 2012. Repatriation of the sacred objects to Mr. Lloyd Littlebird, Sr. may proceed after that date if no additional claimants come forward.

Little Bighorn Battlefield National Monument is responsible for notifying Mr. Lloyd Littlebird, Sr.; Arapaho Tribe of the Wind River Reservation, Wyoming; Assiniboine and Sioux Tribes of the Fort Peck Indian Reservation, Montana; Cheyenne and Arapaho Tribes, Oklahoma (formerly the Cheyenne-Arapaho Tribes of Oklahoma); Cheyenne River Sioux Tribe of the Cheyenne River Reservation, South Dakota; Crow Creek Sioux Tribe of the Crow Creek Reservation, South Dakota; Crow Tribe of Montana; Flandreau Santee Sioux Tribe of South Dakota; Lower Brule Sioux Tribe of the Lower Brule Reservation, South Dakota; Northern Cheyenne Tribe of the Northern Cheyenne Indian Reservation, Montana; Oglala Sioux Tribe of the Pine Ridge Reservation, South Dakota; Rosebud Sioux Tribe of the Rosebud Indian Reservation, South Dakota; Santee Sioux Nation, Nebraska; Sisseton-Wahpeton Oyate of the Lake Traverse Reservation, South Dakota; Spirit Lake Tribe, North Dakota; Standing Rock Sioux Tribe of North & South Dakota; Three Affiliated Tribes of the Fort Berthold Reservation, North Dakota; and the Yankton Sioux Tribe of South Dakota that this notice has been published.

Dated: December 20, 2011.
Sherry Hutt,
Manager, National NAGPRA Program.

[FR Doc. 2011-33008 Filed 12-22-11; 8:45 am]

BILLING CODE 4312-50-P